DEPARTMENT OF TRANSPORTATION

Surface Transportation Board

[Docket No. FD 35724]

California High-Speed Rail Authority—Construction Exemption—in Merced, Madera and Fresno Counties, Cal

AGENCY: Surface Transportation Board, DOT.

ACTION: Notice of construction exemption.

SUMMARY: The Board is granting an exemption under 49 U.S.C. 10502 from the prior approval requirements of 49 U.S.C. 10901 for the California High-Speed Rail Authority (Authority) to construct an approximately 65-mile high-speed passenger rail line between Merced and Fresno, California (the Project). The Project would be the first section of the statewide California High-Speed Train System. This exemption is subject to environmental mitigation conditions and the condition that the Authority build the route designated as environmentally preferable.

DATES: The exemption will be effective on June 28, 2013; petitions to reopen must be filed by July 3, 2013.

ADDRESSES: An original and ten copies of all pleadings, referring to Docket No. FD 35724, must be filed with the Surface Transportation Board, 395 E Street SW., Washington, DC 20423-0001. In addition, one copy of each filing in this proceeding must be served on the Authority's representative: Linda J. Morgan, Nossaman LLP, 1666 K Street NW., Suite 500, Washington, DC 20006.

FOR FURTHER INFORMATION CONTACT: Scott M. Zimmerman, (202) 245-0386. [Assistance for the hearing impaired is available through the Federal Information Relay Service (FIRS) at: 1-800-877-8339].

Copies of written filings will be available for viewing and self-copying at the Board's Public Docket Room, Room 131, and will be posted to the Board's Web site.

SUPPLEMENTARY INFORMATION: Additional information is contained in the Board's decision. Board decisions and notices are available on our Web site at www.stb.dot.gov.

Decided: June 13, 2013.
By the Board, Chairman Elliott, Vice Chairman Begeman, and Commissioner Mulvey. Vice Chairman Begeman concurred in part and dissented in part with a separate expression. Commissioner Mulvey concurred with a separate expression.
Jeffrey Herzig,
Clearance Clerk.

[FR Doc. 2013-14560 Filed 6-18-13; 8:45 am]

BILLING CODE 4915-01-P